DEPARTMENT OF HEALTH AND HUMAN SERVICES

Centers for Disease Control and Prevention

[60Day-06-0502]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Racial and Ethnic Approaches to Community Health (REACH) 2010 Evaluation (0920-0502)—Revision—National Center for Chronic Disease Prevention and Health Promotion (NCCDPHP), Centers for Disease Control and Prevention (CDC).

Background and Brief Description

REACH 2010 is a part of the Department of Health and Human Services' response to the President's Race Initiative and to the Healthy People 2010 goal to eliminate health disparities in the health status of racial and ethnic minorities.

After initial review of the national data, a study approach was adopted on the statistical techniques of “excess deaths” to define the difference in minority health in relation to non-minority health. The analysis of excess deaths revealed that six specific health areas accounted for more than 80 percent of the higher annual proportion of minority deaths. Because of these sobering statistics, and the overarching goals of Healthy People 2010 to eliminate disparities in health, this program was launched in 1999 and is currently ongoing. This is a proposed revision to the currently approved project. REACH 2010 will help to continue assessing the prevalence of self-reported risk behaviors associated with cardiovascular disease, health disparities in infant mortality; deficits in breast and cervical cancer screening and management; diabetes; HIV/AIDS; and deficits in childhood and adult immunizations.

This jointly developed program was designed to be lead by the communities in which it serves, and to demonstrate that adequately funded community-based programs can be instrumental in reducing health disparities in their communities. REACH 2010 serves communities with: African American, American Indian, Hispanic American, Asian American, and Pacific Islander citizens. As part of the program evaluation, CDC has collected uniform surveys annually in 27 communities since 2001. The survey which contains questions that are standard public health performance measures for each health priority areas are administered by telephone or in-person interview. REACH 2010 will be changed so that these surveys will be conducted in only 20 communities (900 individuals each) after October 2007. However, the questionnaire used will remain the same.

There are no costs to respondents except their time to participate in the survey.

Estimated Annualized Burden Hours
Respondents | No. of respondents | No. of responses per respondent | Average burden per response (in hrs.) | Total burden hours)
Adult ages 18 and older who live in communities participating in the REACH 2010 Program | 18,000 | 1 | 15/60 | 4,500
Total |  |  |  | 4,500

Dated: October 2, 2006.
Joan F. Karr,
Acting Reports Clearance Officer, Centers for Disease Control and Prevention.

[FR Doc. E6-16501 Filed 10-5-06; 8:45 am]

BILLING CODE 4163-18-P